DEPARTMENT OF JUSTICE

Antitrust Division

Notice Pursuant to the National Cooperative Research and Production Act of 1993—The Open Group, LLC

Notice is hereby given that, on March 1, 2024, pursuant to section 6(a) of the National Cooperative Research and Production Act of 1993, 15 U.S.C. 4301 et seq. (“the Act”), The Open Group, LLC (“TOG”) has filed written notifications simultaneously with the Attorney General and the Federal Trade Commission disclosing changes in its membership. The notifications were filed for the purpose of extending the Act's provisions limiting the recovery of antitrust plaintiffs to actual damages under specified circumstances. Specifically, 700Apps, Riyadh, SAUDI ARABIA; Arc Compute US LLC, Wilmington, DE; AXE, Inc., Kyoto, JAPAN; BHP Group Operations Pty Ltd, Melbourne, AUSTRALIA; Cisco Systems, Inc., Raleigh, NC; CognitusEA, Bhubaneswar, INDIA; Digicomp Academy AG, Zurich, SWITZERLAND; dt360, Inc., Santa Clara, CA; Eenpool B.V., Ijsselstein, THE NETHERLANDS; Genesis North America, Houston, TX; Greenleaf Advisors, LLC, Wilmette, IL; Nigerian Upstream Petroleum Regulatory Commission, Victoria Island, NIGERIA; Octopian Digital, Reston, VA; OpenSystems Media LLC, Phoenix, AZ; PACE America Inc., Mukilteo, WA; Proven Optics LLC, Columbus, OH; RockNRG LLC, Conroe, TX; Safe Securities Inc., Palo Alto, CA; SensorUp Inc., Calgary, CANADA; Sotatek Intelligence Connection Group JSC, Hanoi, VIETNAM; Teknologisk Institut, Taastrup, DENMARK; The Qt Company, San Jose, CA; Trading Paper Europe V.o.F., Amsterdam, THE NETHERLANDS; Ultra Intelligence & Communications, Frederick, MD; Vinsys Corporation, San Jose, CA; and ZDEN Technologies LLC, Edmond, OK, have been added as parties to this venture.

Also, Archer, Overland Park, KS; ASL BiSL Foundation, Utrecht, THE NETHERLANDS; Beckhoff Automation, LLC, Savage, MN; BHP Billiton Deepwater, Inc., Houston, TX; Build The Vision Inc., Ottawa, CANADA; Datagration Solutions, Inc., Houston, TX; Marine Corps Systems Command, Product Manager EWS, Stafford, VA; Neptune Energy Norge AS, Sandnes, NORWAY; OMV Exploration & Production GmbH, Vienna, AUSTRIA; Pentek, Inc., Upper Saddle River, NJ; Presagis USA, Inc, Richardson, TX; Promity sp. z.o.o., Warsaw, POLAND; Pumpedu s.r.o., Prague, CZECH REPUBLIC; Quint Technology, B.V., Amstelveen, THE NETHERLANDS; Resoptima AS, Oslo, NORWAY; Rocsole Oy, Kuopio, FINLAND; Sprintzeal Americas Inc., Las Vegas, NV; Technology Service Corporation, Arlington, VA; The Engineerix Group, McAllen, TX; Thermo Fisher Scientific, Bordeaux, FRANCE; Tipp Focus Holdings (Pty) Ltd, Johannesburg, SOUTH AFRICA; Transpara LLC, Scottsdale, AZ; and Ypto NV, Anderlecht, BELGIUM, have withdrawn as parties to this venture.

Additionally, Petroleum Experts Limited has changed its name to PE Limited, Edinburgh, UNITED KINGDOM.

No other changes have been made in either the membership or planned activity of the group research project. Membership in this group research project remains open, and TOG intends to file additional written notifications disclosing all changes in membership.

On April 21, 1997, TOG filed its original notification pursuant to section 6(a) of the Act. The Department of Justice published a notice in the Federal Register pursuant to section 6(b) of the Act on June 13, 1997 (62 FR 32371).

The last notification was filed with the Department on January 16, 2024. A notice was published in the Federal Register pursuant to section 6(b) of the Act on February 6, 2024 (89 FR 8247).

Suzanne Morris,
Deputy Director Civil Enforcement Operations, Antitrust Division.

[FR Doc. 2024-07946 Filed 4-15-24; 8:45 am]

BILLING CODE P